DEPARTMENT OF ENERGY

Western Area Power Administration

Notice of Intent to Prepare an Environmental Impact Statement for the Proposed Sundance Energy Project, Coolidge, Arizona

AGENCY: Western Area Power Administration, DOE.

ACTION: Notice of intent to prepare an Environmental Impact Statement.

SUMMARY: In accordance with section 102(2) of the National Environmental Policy Act (NEPA) of 1969, 42 U.S.C. 4332, the Western Area Power Administration (Western) intends to prepare an Environmental Impact Statement (EIS) regarding the proposal by PPL Global to construct an electric generating facility on private property and to interconnect this facility with an existing Western transmission line and Western's grid in the vicinity of Coolidge, Arizona. Two 4.5-mile long transmission lines would connect the proposed power generating facility with a point of interconnection on Western's Liberty-Coolidge 230-kilovolt (kV) transmission line west of Coolidge. In addition, a 1.5-mile, 230-kV transmission line would connect the power plant with Western's Signal Substation. An existing 115-kV transmission line from the Signal Substation to the Coolidge Substation would be upgraded to 230-kV and other work inside the Signal Substation would be required to upgrade it.

In this notice, Western announces its intention to prepare an EIS for the proposed project. Western's scoping efforts will include notification of the general public, Federal, State, local, and tribal agencies of the proposed action, public scoping meetings, and the solicitation of issues to be considered in the EIS.

DATES: The dates for scoping meetings will be announced at least 15 days prior to the meeting date. The announcement will be published in the Federal Register, with the local media, and posted on Western's web page, www.wapa.gov. Written comments on the scope of the EIS for the proposed transmission interconnection and electric generating facility should be received within October 31, 2000 in order to be incorporated in the Draft EIS.

ADDRESSES: If you are interested in receiving future information for the proposed project or wish to submit written comments, please contact Mr. John Holt, Environment Manager, Desert Southwest Customer Service Region, Western Area Power Administration, P.O. Box 6457, Phoenix, AZ 85005-6457, phone (602) 352-2780, fax (602) 352-2956, e-mail jholt@wapa.gov.

FOR FURTHER INFORMATION CONTACT: For general information on the U.S. Department of Energy's NEPA review procedures or status of a NEPA review, contact Ms. Carol M. Borgstrom, Director, Office of NEPA Policy and Compliance, EH-42, U.S. Department of Energy, 1000 Independence Avenue SW., Washington, DC 20585, telephone (202) 586-4600 or (800) 472-2756.

SUPPLEMENTARY INFORMATION: PPL Global proposes to construct the Sundance Energy Project on private lands in Pinal County, approximately 5 miles southwest of Coolidge, Arizona. The project would be a non-utility merchant plant that would sell power during peak demand periods to wholesale-only contract or the on-the-spot market customers. All economic costs of the project will be borne by PPL Global.

The Project would consist of a nominal 600-megawatt natural gas-fired, simple cycle peaking facility and on-site supporting infrastructure including: an administration building, warehouse storage, water treatment facilities, inlet air cooling system to optimize inlet air combustion, gas conditioning equipment, and new on-site access roads. The Project would be designed to operate primarily during on-peak hours. The Project's water consumption would be about 600 acre/feet per year. The water source would be excess Central Arizona Project water delivered through an existing irrigation canal at the site, a new groundwater well, or a combination of both. The generating facility and infrastructure would occupy less than 40 acres of a 280-acre parcel of rural property controlled by PPL Global. Additional proposed on-site facilities would include an interconnection with an existing natural gas transmission pipeline that runs through the project property and the construction of 14 miles of natural gas pipeline to connect with another existing natural gas transmission pipeline southwest of the proposed power plant.

The Project would entail construction of new 230-kV transmission lines and the upgrade of Western's Signal-Coolidge 115-kV transmission line to 230-kV to interconnect with Western's existing Liberty-Coolidge 230-kV transmission Line.

Because of the potential for incorporating new generation into Western's system, and the proposed interconnections with the existing system, Western has determined the need to prepare an EIS in accordance with U.S. Department of Energy's (DOE) NEPA Implementing Procedures found at 10 CFR 1021, Appendix D6 to Subpart D. Although State and local agencies are responsible for issuing permits for the proposed electric generating facility, the EIS will include the analysis of effects from construction and operation of the generating facility as part of the proposed action.

The EIS will be prepared in accordance with the requirements of NEPA and DOE's NEPA Implementing Procedures in conjunction with the Council of Environmental Quality regulations. Full public participation and disclosure are planned for the entire EIS process. Western anticipates the EIS process will take about 15 months. It will include public information/scoping meetings; coordination and involvement with appropriate Federal, State, local, and tribal government agencies; public review and hearing on the published Draft EIS; a published Final EIS; a review period; and publication of a Record of Decision (ROD). Publication of the ROD is anticipated in the fall of 2001.

Dated: August 22, 2000.
Michael S. Hacskaylo,
Administrator.

[FR Doc. 00-22510 Filed 8-31-00; 8:45 am]

BILLING CODE 6450-01-P